DEPARTMENT OF LABOR

Employment and Training Administration

[TA-W-52,802]

Sappi Cloquet LLC, d/b/a Sappi Fine Paper North America, Cloquet, MN; Dismissal of Application for Reconsideration

Pursuant to 29 CFR 90.18(C) an application for administrative reconsideration was filed with the Director of the Division of Trade Adjustment Assistance for workers at Sappi Cloquet LLC, d/b/a Sappi Fine Paper North America, Cloquet, Minnesota. The application contained no new substantial information which would bear importantly on the Department's determination. Therefore, dismissal of the application was issued.

TA-W-52,802; Sappi Cloquet LLC, d/b/a Sappi Fine Paper North America, Cloquet, Minnesota (March 5, 2004).

Signed in Washington, DC this 15th day of March, 2004.
Timothy Sullivan,
Director, Division of Trade Adjustment Assistance.

[FR Doc. 04-6549 Filed 3-23-04; 8:45 am]

BILLING CODE 4510-30-P